DEPARTMENT OF TRANSPORTATION

Federal Highway Administration

Notice of Final Federal Agency Actions on Proposed Transportation Project in Washington State

AGENCY: Federal Highway Administration (FHWA), DOT.

ACTION: Notice of Limitation on Claims for Judicial Review of Actions by FHWA and Other Federal Agencies.

SUMMARY: This notice announces actions taken by the FHWA and other Federal agencies that are final within the meaning of 23 U.S.C. 139(l)(1). The actions relate to the proposed Interstate 90 (I-90) Snoqualmie Pass East Project, located between Hyak and Easton (Milepost 55.1 to 70.3) in the County of Kittitas, within the State of Washington. Those actions grant licenses, permits, and approvals for the project. The project will add one additional lane eastbound and westbound within a 15-mile section of I-90. Specific actions include acquiring additional easement and right-of-way, replacing the existing snowshed, replacing and adding new bridges and culverts, adding snow support structures (avalanche control), extending chain up/off areas, adding wildlife overcrossings, removing and placing fill, removing vegetations and trees, and providing stormwater treatment for both new and existing surfaces. The project also includes extensive mitigation and restoration actions which are compatible with land use plans.

DATES: By this notice, the FHWA is advising the public of final agency actions subject to 23 U.S.C. 139(l)(1). A claim seeking judicial review of the Federal agency actions on the listed highway project will be barred unless the claim is filed on or before April 27, 2009. If the Federal law that authorizes judicial review of a claim provides a time period of less than 180 days for filing such claim, then that shorter time period still applies.

FOR FURTHER INFORMATION CONTACT: Liana Liu, Area Engineer; Address: 711 S. Capitol Way, Suite 501, Olympia, WA; The Area Engineer's regular office hours are: Monday-Friday 8 a.m.-4:30 p.m.; Telephone: (360) 753-9553; e-mail address: Liana.Liu@fhwa.dot.gov. You may also contact Jason W. Smith, WSDOT I-90 Environmental Manager; Address: 1710 S. 24th Avenue, Yakima, WA 98902; Office Hours: Monday-Thursday 8 a.m.-4:30 p.m.; Telephone (509) 577-1921; e-mail address: SmithJW@wsdot.wa.gov.

SUPPLEMENTARY INFORMATION: Notice is hereby given that the FHWA and other Federal agencies have taken final agency actions by issuing licenses, permits, and NEPA approval for the I-90 Snoqualmie Pass East Project located in the State of Washington that is listed below. The first five miles of construction (beginning at MP 55.1) is funded and constructing the remaining 10 miles of the project is dependent upon the availability of future funding.

The action by the Federal agencies on a project, and the laws under which such action were taken, are described in the Final Environmental Impact Statement (EIS) issued in connection with the project, and in other project records. The Final EIS and Record of Decision (ROD), and other project records for the listed project are available by contacting the FHWA or the WSDOT at the addresses provided above. The Final EIS and ROD documents also can be viewed and downloaded electronically, or viewed at the following public libraries, as specified below.

I-90 Snoqualmie Pass East Project Web site address: http://www.wsdot.wa.gov/projects/I90/SnoqualmiePassEast.

Area public libraries:

• Washington State Library

• Seattle Public Library (downtown branch)

• King County Libraries (Bellevue Regional, Issaquah, Lake Hills, Newport Way, and North Bend)

• Ellensburg Library

• Cle Elum Library

• Central Washington University Library

This notice applies to all Federal agency decisions on the listed projects as of the issuance date of this notice and all laws under which such actions were taken, including but not limited to:

General: National Environmental Policy Act [42 U.S.C. 4321-4351]; Federal-Aid Highway Act [23 U.S.C. 109].

Air: Clean Air Act, as amended [42 U.S.C. 7401-7671(q)].

Land: Section 4(f) of the Department of Transportation Act of 1966 [49 U.S.C. 303], Organic Act of 1897 [16 U.S.C. 473 et seq.], National Forest Management Act of 1976 [16 U.S.C.].

Wildlife: Endangered Species Act [16 U.S.C. 1531-1544]; Anadromous Fish Conservation Act [16 U.S.C. 757(a)-757(g)]; Fish and Wildlife Coordination Act [16 U.S.C. 661-667(d)]; Magnuson-Stevenson Fishery Conservation and Management Act of 1976, as amended [16 U.S.C. 1801 et seq.]; Migratory Bird Treaty Act [16 U.S.C. 703-712].

Historic and Cultural Resources: Section 106 of the National Historic Preservation Act of 1966, as amended [16 U.S.C. 470(f) et seq.]; Archaeological Resources Protection Act of 1977 [16 U.S.C. 470(aa)-11]; Archaeological and Historic Preservation Act [16 U.S.C. 469-469(c)]; Native American Grave Protection and Repatriation Act [25 U.S.C. 3001-3013].

Social and Economic: Civil Rights Act of 1964 [42 U.S.C. 2000(d)-2000(d)(1)]; American Indian Religious Freedom Act [42 U.S.C. 1996]; Farmland Protection Policy Act [7 U.S.C. 4201-4209]; the Uniform Relocation Assistance and Real Property Acquisition Policies Act of 1970, as amended [42 U.S.C. 61].

Wetlands and Water Resources: Clean Water Act, 33 U.S.C. 1251-1377 (Section 404, Section 401, Section 319); Land and Water Conservation Fund [16 U.S.C. 4601-4604]; Safe Drinking Water Act [42 U.S.C. 300(f)-300(j)(6)]; Rivers and Harbors Act of 1899 [33 U.S.C. 401-406]; TEA-21 Wetlands Mitigation [23 U.S.C. 103(b)(6)(m), 133(b)(11)]; Flood Disaster Protection Act [42 U.S.C. 4001-4128].

Hazardous Materials: Comprehensive Environmental Response, Compensation, and Liability Act [42 U.S.C. 9601-9675]; Superfund Amendments and Reauthorization Act of 1986 [PL 99-499]; Resource Conservation and Recovery Act [42 U.S.C. 6901-6992(k)].

Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

Final actions taken under: NEPA Final EIS issuance and Record of Decision by FHWA; Biological Opinion issued by United States Fish and Wildlife Service on August 29, 2008.

FHWA NEPA documents: Final EIS published August 29, 2008 and Record of Decision issued October 6, 2008. These documents are available from the agency contacts, WSDOT Web site or libraries identified above.

(Catalog of Federal Domestic Assistance Program Number 20.205, Highway Planning and Construction. The regulations implementing Executive Order 12372 regarding intergovernmental consultation on Federal programs and activities apply to this program.)

Authority: 23 U.S.C. 139(l)(1).

Issued on: October 21, 2008.
Liana Liu,
Area Engineer, Olympia, WA.

[FR Doc. E8-25497 Filed 10-24-08; 8:45 am]

BILLING CODE 4910-RY-P